SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Application for Social Security Disability Benefits—0960-0060. The Social Security Administration (SSA) uses the information collected on form SSA-16 to determine eligibility for Social Security disability benefits. The respondents are applicants for such benefits.

Number of Respondents: 1,185,942.

Frequency of Response: 1.

Average Burden Per Response: 20 minutes.

Estimated Average Burden: 395,314 hours.

2. Appointment of Representative-0960-0527. The information on Form SSA-1696 is used by SSA to verify the applicant's appointment of a representative. The form allows SSA to inform the representative of issues that affect the applicant's claim. The respondents are applicants who notify SSA that they have appointed a person to represent them.

Number of Respondents: 412,653.

Frequency of Response: 1.

Average Burden Per Response: 10 minutes.

Estimated Average Burden: 68,776 hours.

3. Request to be Selected as Payee—0960-0014. The information collected on Form SSA-11-BK is used to determine the proper payee for a Social Security beneficiary, and it is designed to aid in the investigation of a payee applicant. The form will establish the applicant's relationship to the beneficiary, the justification, the concern for the beneficiary and the manner in which the benefits will be used. The respondents are applicants for selection as representative payee for Old Age, Survivors and Disability Insurance, Supplemental Security Income (SSI), Black Lung benefits and title-VIII Special Veterans Benefits.

Number of Respondents: 2,121,686.

Frequency of Response: 1.

Average Burden Per Response: 10.5 minutes.

Estimated Annual Burden: 371,295 hours.

4. Application for Special Benefits for World War II Veterans-0960-0615. The information collected on Form SSA-2000 will be used by the Social Security Administration to elicit the information necessary to determine entitlement of an individual to benefits under title VIII of the Social Security Act. Respondents are certain World War II Veterans as identified under title VIII.

Number of Respondents: 12,000.

Frequency of Response: 1.

Average Burden Per Response: 20 minutes.

Estimated Annual Burden: 4,000 hours.

5. Claim for Amount Due in the Case of a Deceased Beneficiary-0960-0101. Section 204 (d) of the Social Security Act provides that if a beneficiary dies before payment of Social Security benefits has been completed, the amount due will be paid to the persons meeting specified qualifications. The information collected on Form SSA-1724 is used by the Social Security Administration to determine whether an individual is entitled to the underpayment. The respondents are applicants for the underpayment of a deceased beneficiary.

Number of Respondents: 300,000.

Frequency of Response: 1.

Average Burden Per Response: 10 minutes.

Estimated Annual Burden: 50,000 hours.

6. Third party Liability Information Statement-0960-0323. Form SSA-8019 is used by the Social Security Administration to gather information or to make changes in existing information about third party insurance (excluding Medicare or Medicaid), which could be responsible for payment for a beneficiary's medical care. The respondents are third-party insurers other than Medicare or Medicaid.

Number of Respondents: 95,000.

Frequency of Response: 1.

Average Burden Per Response: 5 minutes.

Estimated Annual Burden: 7,917 hours.

II. The information collection listed below has been submitted to OMB for clearance. Written comments and recommendations on the information collection would be most useful if received within 30 days from the date of this publication. Comments should be directed to the SSA Reports Clearance Officer and the OMB Desk Officer at the addresses listed at the end of this publication. You can obtain a copy of the OMB clearance package by calling the SSA Reports Clearance Officer on (410) 965-4145, or by writing to him.

Letter to Employer Requesting Wage Information-0960-0138. The information collected on form SSA-L4201 is used by SSA to determine eligibility and proper benefit payments for SSI applicants/recipients. The respondents are employers of applicants for and recipients of SSI payments.

Number of Respondents: 133,000.

Frequency of Response: 1.

Average Burden Per Response: 30 minutes.

Estimated Annual Burden: 66,500 hours.

(SSA Address)

Social Security Administration, DCFAM, Attn: Frederick W. Brickenkamp, 6401 Security Blvd., 1-A-21 Operations Bldg., Baltimore, MD 21235.

(OMB Address)

Office of Management and Budget, OIRA, Attn: Desk Officer for SSA, New Executive Office Building, Room 10230, 725 17th St., NW, Washington, D.C. 20503.

Dated: February 22, 2000.
Frederick W. Brickenkamp,
Reports Clearance Officer, Social Security Administration.

[FR Doc. 00-4573 Filed 2-25-00; 8:45 am]

BILLING CODE 4191-02-U